DEPARTMENT OF ENERGY

Federal Energy Regulatory Commission

[Docket Nos. ER11-2875-001; ER11-2875-002; Docket No. EL11-20-001]

PJM Interconnection, L.L.C.; PJM Power Providers Group v. PJM Interconnection, L.L.C.; Notice Establishing Post-Technical Comment Period

As indicated in the June 29, 2011 Notice in these dockets, comments on the technical conference that was held on July 28, 2011, to discuss issues related to PJM Interconnection, L.L.C. (PJM)'s Minimum Offer Price Rule (MOPR) and resources designed as “self supply,” ¹ are due 21 days from the date of this conference, or Thursday, August 18, 2011.

¹ PJM Interconnection, L.L.C., 135 FERC ¶ 61,228 (2011).

Dated: July 28, 2011.
Nathaniel J. Davis, Sr.,
Deputy Secretary.

[FR Doc. 2011-19633 Filed 8-2-11; 8:45 am]

BILLING CODE 6717-01-P